DEPARTMENT OF JUSTICE

Antitrust Division

Notice Pursuant to the National Cooperative Research and Production Act of 1993—SSPC: The Society for Protective Coatings

Notice is hereby given that, on February 14, 2008, pursuant to Section 6(a) of the National Cooperative Research and Production Act of 1993, 15 U.S.C. 4301 et seq. (“the Act”), SSPC: The Society for Protective Coatings (“SSPC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is SSPC: The Society for Protective Coatings, Pittsburgh, PA. The nature and scope of SSPC's standards development activities are: Development of voluntary consensus standards for compositions and performance of generic types of heavy-duty industrial and maintenance protective coatings, coating systems, and abrasives; cleanliness requirements for steel and concrete prior to the application of industrial and maintenance protective coatings; techniques and procedures for application of industrial and maintenance protective coatings; and requirements for third-party programs enabling facility owners to evaluate the qualifications of firms that apply industrial coatings to steel and concrete in the field and in paint shops, coating inspection companies, and coating applicators.

Patricia A. Brink,
Deputy Director of Operations, Antitrust Division.

[FR Doc. E8-5088 Filed 3-14-08; 8:45 am]

BILLING CODE 4410-11-M